DEPARTMENT OF THE INTERIOR

Bureau of Indian Affairs

Proclaiming Certain Lands, Dafter Parcel, as an Addition to the Bay Mills Indian Reservation for the Bay Mills Indian Community of Michigan

AGENCY: Bureau of Indian Affairs, Interior.

ACTION: Notice of Reservation Proclamation.

SUMMARY: This notice informs the public that the Assistant Secretary—Indian Affairs proclaimed approximately 110.06 acres, more or less, to be added to the Bay Mills Indian Reservation for the Bay Mills Indian Community of Michigan.

FOR FURTHER INFORMATION CONTACT: Ben Burshia, Bureau of Indian Affairs, Division of Real Estate Services, Mail Stop 4639-MIB, 1849 C Street NW., Washington, DC 20240, telephone (202) 208-7737.

SUPPLEMENTARY INFORMATION: This Notice is published in the exercise of authority delegated by the Secretary of the Interior to the Assistant Secretary—Indian Affairs by part 209 of the Departmental Manual.

A proclamation was issued according with Section 7 of the Act of June 18, 1934 (48 Stat. 986; 25 U.S.C. 467), for the land described below. The land was proclaimed to be an addition to the Bay Mills Indian Reservation and part of the Bay Mills Indian Community of Michigan for the exclusive use of Indians on that Reservation who are entitled to reside at the Reservation by enrollment or tribal membership.

Bay Mills Indian Community Reservation

Township of Dafter, Chippewa County, Michigan

A parcel of land located in the South ½ of Section 15, Township 46 North, Range 1 West, Dafter Township, Chippewa County, Michigan, more particularly described as commencing at the Southwest corner of said Section 15; thence North 89°20′34″ E along the South line of said Section 15 a distance of 1139.96 feet; thence North 00°39′26″ W a distance of 75.00 feet to a point on the Northerly right of way line of M-28, said point is the POINT OF BEGINNING: Thence S 89°20′34″ W along said Northerly right of way line a distance of 98.76 feet; Thence N 00°00′36″ E a distance of 200.00 feet; thence N 8°20′34″ E a distance of 273.00 feet to a point on the West line of the East ½ of the Southwest ¼ of said Section 15; Thence N 00°00′36″ E along said West line a distance of 2461.49 feet to the Northwest corner of said East ½, said point is on the East-West ¼ line of said Section 15; Thence N 83°41′56″ E along said East-West ¼ line a distance of 2340.11 feet to a point the Westerly Limited Access Right of Way line of Highway I-75; Thence the following six courses and distances along said Westerly right of way line; Thence Southwesterly 1271.34 feet along the arc of a non-tangent curve, concave to the Southeast, said curve has a delta angle of 06°16′28″, a radius of 11,609.16 feet and is subtended by a chord that bears S 14°12′52″ W a distance of 1270.70 feet; Thence S 11°04′38″ W a distance of 286.72 feet; Thence S 34°58′27″ W a distance of 713.99 feet; Thence S 53°09′38″ W a distance of 1070.00 feet; Thence S 68°06′45″ W a distance of 353.64 feet; Thence S 84°50′34″ W a distance of 542.00 feet, to the POINT OF BEGINNING.

The above-described lands contain a total of 110.06 acres, more or less, which are subject to all valid rights, reservations, rights-of-way, and easements of record.

This proclamation does not affect title to the land described above, nor does it affect any valid existing easements for public roads and highways, public utilities and for railroads and pipelines and any other rights-of-way or reservations of record.

Dated: August 23, 2012.
Donald E. Laverdure,
Acting Assistant Secretary—Indian Affairs.

[FR Doc. 2012-21825 Filed 9-4-12; 8:45 am]

BILLING CODE 4310-W7-P